DEPARTMENT OF DEFENSE

Office of the Secretary

Privacy Act of 1974; Systems of Records

AGENCY: Defense Intelligence Agency, DoD.

ACTION: Notice to Delete Systems of Records.

SUMMARY: The Defense Intelligence Agency is deleting five systems of records notices in its existing inventory of record systems subject to the Privacy Act of 1974 (5 U.S.C. 552a), as amended.

DATES: This proposed action will be effective without further notice on February 8, 2007 unless comments are received that would result in a contrary determination.

ADDRESSES: Freedom of Information Office, Defense Intelligence Agency (DAN-1A), 200 MacDill Boulevard, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific deletions are set forth below. The proposed deletions are not within the purview of subsection (r) of the Privacy Act of 1974 (5 U.S.C. 552a), as amended, which requires the submission of a new or altered system report.

Dated: January 3, 2007.
C.R. Choate,
Alternate OSD Federal Register Liaison Officer, Department of Defense.

Deletion

LDIA 0005

System name:

Personnel Management Information System (February 22, 1993, 58 FR 10613).

Reason: The records contained in this system of records have been migrated into Defense Intelligence Agency's LDIA 05-0001, Human Resources Management System (HRMS).

LDIA 0015

System name:

Biographic Sketch (February 22, 1993, 58 FR 10613).

Reason: Information no longer collected or maintained. Records have been destroyed.

LDIA

System name:

Official Traveler Profile (February 22, 1993, 58 FR 10613).

Reason: Defense Intelligence Agency maintains these records under a Government-wide Privacy Act system of records notice, GSA/GOVT-4, Contracted Travel Services Program published in the Federal Register on December 20, 2004, at 69 FR 75980.

LDIA 0590

System name:

Defense Intelligence Special Career Automated System (DISCAS) (February 22, 1993, 58 FR 10613).

Reason: The records are maintained in Defense Intelligence Agency's LDIA 05-0001, Human Resources Management System (HRMS) published in the Federal Register on November 25, 2005 at 70 FR 71099.

LDIA 0813

System name:

Bibliographic Data Index (February 22, 1993, 58 FR 10613).

Reason: Information no longer collected or maintained. Records have been destroyed and the permanent records were retired to the Washington National Records Center.

[FR Doc. 07-25 Filed 1-8-07; 8:45 am]

BILLING CODE 5001-06-M